CONSUMER PRODUCT SAFETY COMMISSION

Proposed Extension of Approval of Information Collection; Comment Request—Safety Standard for Walk-Behind Power Lawn Mowers

AGENCY: Consumer Product Safety Commission.

ACTION: Notice; correction.

SUMMARY: As required by the Paperwork Reduction Act of 1995 (44 U.S.C. Chapter 35), the Consumer Product Safety Commission (CPSC) requested comments on a proposed extension of approval, for a period of 3 years from the date of approval by the Office of Management and Budget (OMB), of a collection of information from manufacturers and importers of walk-behind power lawn mowers. This collection of information consists of testing and recordkeeping requirements in certification regulations implementing the Safety Standard for Walk-Behind Power Lawn Mowers (16 CFR part 1205).

This document was published in the Federal Register of October 4, 2012, and contains an incorrect docket number.

FOR FURTHER INFORMATION CONTACT: Robert H. Squibb, Consumer Product Safety Commission, 4330 East West Highway, Bethesda, MD 20814; (301) 504-7815, or by email to: rsquibb@cpsc.gov.

Correction

(1) In the Federal Register of October 4, 2012, 77 FR 60683, in the first column, correct the docket number in the heading to read: [Docket No. CPSC-2012-0058];

(2) In the Federal Register of October 4, 2012, 77 FR 60683, in the first column, correct the first sentence of the ADDRESSES section to read: “You may submit comments, identified by Docket No. CPSC-2012-0058, by any of the following methods:”

Dated: October 12, 2012.
Todd A. Stevenson,
Secretary, Consumer Product Safety Commission.

[FR Doc. 2012-25521 Filed 10-16-12; 8:45 am]

BILLING CODE 6355-01-P